FEDERAL MARITIME COMMISSION

Agency Information Collection Activities: 60-Day Public Comment Request

AGENCY: Federal Maritime Commission.

ACTION: Notice and request for comments.

SUMMARY: As part of our continuing effort to reduce paperwork and respondent burden, and as required by the Paperwork Reduction Act of 1995, the Federal Maritime Commission (Commission) invites comments on the continuing information collection (extension with no changes) listed below in this notice.

DATES: Written comments must be submitted on or before June 27, 2016.

ADDRESSES: Address all comments to: Vern W. Hill, Managing Director, Office of the Managing Director, Federal Maritime Commission, 800 North Capitol Street NW., Washington, DC 20573, Phone: (202) 523-5800, Email: omd@fmc.gov.

Please send separate comments for each specific information collection listed below. You must reference the information collection's title and OMB number in your comments.

FOR FURTHER INFORMATION CONTACT: Copies of the information collections and instructions, or copies of any comments received, may be obtained by contacting Donna Lee on (202) 523-5800 or email at dlee@fmc.gov.

SUPPLEMENTARY INFORMATION:

Request for Comments

The Commission, as part of its continuing effort to reduce paperwork and respondent burden, invites the general public and other Federal agencies to comment on the continuing information collection listed in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments. We invite comments on: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR part 532—NVOCC Negotiated Rate Arrangements.

OMB Approval Number: 3072-0071 (Expires July 31, 2016).

Abstract: Section 16 of the Shipping Act of 1984, 46 U.S.C. 40103, authorizes the Commission to exempt by order or regulation “any class of agreements between persons subject to this [Act] or any specified activity of those persons from any requirement of this [Act] if the Commission finds that the exemption will not result in substantial reduction in competition or be detrimental to commerce.” The Commission may attach conditions to any exemption and may, by order, revoke an exemption. In 46 CFR part 532, the Commission exempted non-vessel-operating common carriers (NVOCCs) from the tariff rate publication requirements of Part 520, and allowed an NVOCC to enter into an NVOCC Negotiated Rate Arrangement (NRA) in lieu of publishing its tariff rate(s), provided the NVOCC posts a prominent notice in its rules tariff invoking the NRA exemption and provides electronic access to its rules tariff to the public free of charge. This information collection corresponds to the rules tariff prominent notice and the requirement to make its tariff publicly available free of charge.

Current Actions: There are no changes to this information collection, and it is being submitted for extension purposes only.

Type of Review: Extension.

Needs and Uses: The Commission uses the information filed by an NVOCC in its rules tariff to determine whether the NVOCC has invoked the exemption for a particular shipment or shipments. The Commission has used and will continue to use the information required to be maintained by NVOCCs for monitoring and investigatory purposes, and, in its proceedings, to adjudicate related issues raised by private parties.

Frequency: An NVOCC invokes the NRA exemption by publishing a prominent notice in its rules tariff once.

Type of Respondents: NVOCCs.

Number of Annual Respondents: 255. While there has been a substantial decrease in the number of annual responses, in 2013 the NRA exemption was extended to include foreign unlicensed NVOCCs, which resulted in a “one-time” increase in the number of annual respondents to 626. The Commission expects the number of annual respondents to remain at 255 in the future, as new NVOCCs enter the market and some invoke the exemption.

Estimated Time per Response: 15 minutes for those adding a tariff rule to use a combination of tariff rates and NRAs. One hour for those who make their tariff rules publicly available by opting to use NRAs exclusively and posting them to their Web site.

Total Annual Burden: Based on the number of NVOCCs who have filed a rule or prominent notice in their respective tariffs, we calculate that 25% of new NVOCCs will use the NRA exemption. Of those, about 3% will use NRAs exclusively. Almost all will likely use similar language invoking the exemption in their tariffs. For the 255 annual respondents, the total burden is calculated as follows:

8 × 1 hour = 8 hours (3% using NRAs exclusively)

247 × .25 hour = 61.75 hours rounded to 62 (combination of tariff rates and NRAs)

Total annual burden is estimated to be 70 hours.

Rachel E. Dickon,
Assistant Secretary.

[FR Doc. 2016-09817 Filed 4-26-16; 8:45 am]

BILLING CODE 6731-AA-P